ENVIRONMENTAL PROTECTION AGENCY

[EPA-R08-OPPT-2020-0013; FRL-12189-01-OMS]

Agency Information Collection Activities; Submission to the Office of Management and Budget for Review and Approval; Comment Request; Environmental Protection Agency (EPA) Pollution Prevention (P2) Recognition Program (Renewal)

AGENCY: Environmental Protection Agency (EPA).

ACTION: Notice.

SUMMARY: The Environmental Protection Agency (EPA) has submitted an information collection request (ICR), EPA Pollution Prevention (P2) Recognition Program” (EPA ICR Number 2614.02, OMB Control Number 2008-0004) to the Office of Management and Budget (OMB) for review and approval in accordance with the Paperwork Reduction Act. This is a proposed extension of the ICR, which is currently approved through August 31, 2024. Public comments were previously requested via the Federal Register on December 5, 2023, during a 60-day comment period. This notice allows for an additional 30 days for public comments.

DATES: Comments may be submitted on or before September 16, 2024.

ADDRESSES: Submit your comments, referencing Docket ID Number EPA-R08-OPPT-2020-0013, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Melissa Payan, EPA R8 Land, Chemical and Redevelopment Division, Pollution Prevention Program, (8LCRD-CSES), Environmental Protection Agency, 1200 Pennsylvania Ave. NW, Washington, DC 20460; telephone number: 303-312-651; email address: payan.melissa@epa.gov.

SUPPLEMENTARY INFORMATION: This is a proposed extension of the ICR, which is currently approved through August 31, 2024. An agency may not conduct or sponsor and a person is not required to respond to a collection of information unless it displays a currently valid OMB control number.

Public comments were previously requested via the Federal Register on December 5, 2023 during a 60-day comment period (88 FR 84321). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA's Pollution Prevention (P2) Program is a voluntary program that encourages businesses/facilities to adopt P2 projects that reduces both financial costs (waste management and cleanup) and environmental costs (health problems and environmental damage). In passing the Pollution Prevention Act (PPA) in 1990, Congress found that “(T)here are significant opportunities for industry to reduce or prevent pollution at the source through cost-effective changes in production, operation, and raw materials use. Such changes offer industry substantial savings in reduced raw material, pollution control, and liability costs as well as help protect the environment and reduce risks to worker health and safety.” 42 U.S.C. 13101(a)(2). Furthermore, the PPA states the Administrator shall “establish an annual award program to recognize a company or companies which operate outstanding or innovative source reduction programs” (PPA section 6604) 42 U.S.C. 13103(b)(13). The EPA P2 Recognition Program is an annual, voluntary, and non-monetary program that will recognize companies that demonstrate leadership in innovative P2 practices and encourage other entities to consider P2 approaches. This ICR may be applicable to HQ, as well as any of the 10 Regional Offices that choose to participate and implement a P2 Recognition Program.

Form Numbers: EPA P2 Award Program Application—5800-005.

Respondents/affected entities: Various types of businesses, companies, organizations, both for-profit and non-profit, from all North American Industry Classification System (NAICS) codes. However, businesses need to be from a state or tribe in an EPA Region implementing this recognition program.

Respondent's obligation to respond: Voluntary.

Estimated number of respondents: 42 (total).

Frequency of response: Annually.

Total estimated burden: 458 hours (per year). Burden is defined at 5 CFR 1320.03(b).

Total estimated cost: $33,012.84 (per year), which includes $0 annualized capital or operation & maintenance costs.

Changes in the Estimates: There is a decrease of 517 hours in the total estimated respondent burden compared with the ICR currently approved by OMB. This decrease is due to adjustments to the estimates and receiving input from respondents over the past three years. The original consultations were with state recognition programs, which are more rigorous than the regional P2 award program. Regions who are currently implementing Regional P2 Programs, consulted with applicants who provided an average estimate of 10.9 hours to respond to questions in the application. Based off these consultations we are decreasing the respondent burden by 8.6 hours per respondent.

Courtney Kerwin,
Director, Regulatory Support Division.

[FR Doc. 2024-18344 Filed 8-15-24; 8:45 am]

BILLING CODE 6560-50-P